DEPARTMENT OF ENERGY

Federal Energy Regulatory Commission

[Project No. 13305-002]

Whitestone Power and Communications; Notice Concluding Pre-Filing Process and Approving Process Plan and Schedule

a. Type of Filing: Notice of Intent To File an Application for a Hydrokinetic Pilot Project License.

b. Project No.: 13305-002.

c. Date Filed: August 22, 2011.

d. Submitted By: Whitestone Power and Communications (Whitestone).

e. Name of Project: Microturbine Hydrokinetic River-In-Stream Energy Conversion Power Project.

f. Location: On the Tanana River near Delta Junction, Alaska. The project would not occupy any federal lands.

g. Filed Pursuant to: 18 CFR 5.3 and 5.5 of the Commission's regulations.

h. Applicant Contact: Steven M. Selvaggio, Whitestone Power and Communications, P.O. Box 1630, Delta Junction, Alaska 99737; (907) 895-4938.

i. FERC Contact: Dianne Rodman; (202) 502-6077.

j. Whitestone has filed with the Commission: (1) A notice of intent (NOI) to file an application for a pilot hydrokinetic hydropower project and a draft license application with monitoring plan; (2) a request for waiver of certain Integrated Licensing Process (ILP) regulations necessary for expedited processing of a license application for a hydrokinetic pilot project; (3) a proposed process plan and schedule; and (4) a request to be designated as the non-federal representative for section 7 of the Endangered Species Act (ESA) consultation and for section 106 consultation under the National Historic Preservation Act.

k. A notice was issued on August 25, 2011, soliciting comments on the draft license application from agencies and stakeholders. Comments were filed by the Alaska Department of Fish and Game.

l. Whitestone was designated as the non-federal representative for section 7 of the Endangered Species Act consultation and for section 106 consultation under the National Historic Preservation Act on January 21, 2011.

m. The proposed Microturbine Hydrokinetic River-In-Stream Energy Conversion Power Project would consist of: (1) A 12-foot-wide, 16-foot-diameter Poncelet undershot water wheel; (2) a 34-foot-long, 19- to 24-foot-wide aluminum-frame floatation platform mounted on a 34-foot-long, 3.5-foot-diameter high-density- polyethylene (HDPE) pontoon and a 34-foot-long, 3-foot-diameter HDPE pontoon; (3) a 100-kilowatt turbine/generator unit; (4) a 33-foot-long, 3.5-foot-wide gangway from the shore to the floating pontoon; (5) three anchoring cables to secure the flotation platform to the shore, including a 30-foot-long primary safety tether, a 117-foot-long primary cable, and a 100-foot-long secondary cable; (6) an approximately 900-foot-long transmission cable from the floatation platform to an existing Golden Valley Electric Association distribution line; and (7) appurtenant facilities. The project is anticipated to operate from April until October, with an estimated annual generation of 200 megawatt-hours.

n. The pre-filing process has been concluded and the requisite regulations have been waived such that the process and schedule indicated below can be implemented.

o. Post-filing process schedule. The post-filing process will be conducted pursuant to the following schedule. Revisions to the schedule may be made as needed.

Milestones | Dates
Final license application expected | April 17, 2012.
Issue notice of acceptance and ready for environmental analysis and request for interventions | May 2, 2012.
Recommendations, Conditions, Comments and Interventions due | June 1, 2012.
Issue notice of availability of environmental assessment | July 31, 2012.
Comments due and 10(j) resolution, if needed | August 30, 2012.

p. Register online at http://ferc.gov/esubscribenow.htm to be notified via email of new filing and issuances related to this or other pending projects. For assistance, contact FERC Online Support.

Dated: April 5, 2012.
Kimberly D. Bose,
Secretary.

[FR Doc. 2012-8819 Filed 4-11-12; 8:45 am]

BILLING CODE 6717-01-P